DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of July 2025.

DATES: Applicable August 26, 2025.

FOR FURTHER INFORMATION CONTACT: Yasmin Bordas, AD/CVD Operations, Customs Liaison Unit, Enforcement and Compliance, International Trade Administration, U.S. Department of Commerce, 1401 Constitution Avenue NW, Washington, DC 20230, telephone: (202) 482-3813.

Notice of Scope Ruling Applications

In accordance with 19 CFR 351.225(d)(3), we are notifying the public of the following scope ruling applications related to AD and CVD orders and findings filed in or around the month of July 2025. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”).

Scope Ruling Applications

Mobile Access Equipment and Subassemblies Thereof from The People's Republic of China (China) (A-570-139/C-570-140); Plate Blanks; ² produced and exported from China; submitted by Hunan Kunding CNC Technology Co., Ltd. (Hunan Kunding); July 10, 2025; ACCESS scope segment “Telescopic Boom Lift Plate Blanks”

² The products are pieces of steel plates of different steel grades, thickness, shapes and sizes. Plate blanks are to be welded together to form the basic steel frames of the three main subassemblies of a telescopic boom lift: chassis assembly, turntable assembly, and boom assembly.

Magnesium Metal from China (A-570-896); Magnesium Extrusions; ³ produced and exported from China; submitted by Galvotec Mag and Metal Works, Inc. (Galvotec); July 11, 2025; ACCESS scope segment “Galvotec magnesium extrusions”

³ The products are various magnesium alloy extrusion profiles in standard lengths typically ranging in lengths of 6 to 288 inches (24 feet). The profiles are specially designed to have surface and edge characteristics that are optimal for the finishing of poured concrete. Typical Mg alloys used to produce the extrusion profiles are AZ31B or AZ31C which contain a nominal 3% aluminum. 1% Zinc, with the balance of the material being magnesium.

Certain Pasta from Italy (A-475-818/C-475-819); Lumpini Bean Pasta; ⁴ produced and exported from Italy; submitted by La Molisana SpA (La Molisana); July 15, 2025; ACCESS scope segment “Lupini Bean Pasta”

⁴ The product is a food product which is prepared and eaten by the ultimate consumer. It is made from a proprietary blend of Lupini Bean and Durum Wheat Semolina. The product has a high fiber and high protein content. It has 13 grams of protein per each 3.5 ounce serving, 11 grams of fiber, and 54 grams of net carbs.

Stainless Steel Flanges from India (A-533-877/C-533-878); Ring-Shaped Components; ⁵ produced and exported from India; submitted by Pradeep Metals Limited, Inc. (Pradeep); July 18, 2025; ACCESS scope segment “Ring-shaped Components”

⁵ The products are ring-shaped, custom-made, precision-machined stainless-steel components used in measurement instruments; these include flow meters; pressure sensors; radio wave sensors; and vibration sensors. The components house sensor assemblies, the designs of which are proprietary to the end customer. The components are not manufactured to any nominal pipe size. The ring-shaped components are not used in line connections, to slide over pipe, to fit a pipe into a recession, create a threaded pipe connection, or to seal off a line.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁶ Commerce's practice generally dictates that where a deadline falls on a weekend, Federal holiday, or other non-business day, the appropriate deadline is the next business day.⁷ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁸

⁶ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁷ See Notice of Clarification: Application of “Next Business Day” Rule for Administrative Determination Deadlines Pursuant to the Tariff Act of 1930, As Amended, 70 FR 24533 (May 10, 2005).

⁸ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁹

⁹ See Scope Ruling Application; Annual Inquiry Service List; and Informational Sessions, 86 FR 53205 (September 27, 2021).

Interested parties are invited to comment on the completeness of this monthly list of scope ruling applications received by Commerce. Any comments should be submitted to Scot Fullerton, Acting Deputy Assistant Secretary for AD/CVD Operations, Enforcement and Compliance, International Trade Administration, via email to CommerceCLU@trade.gov.

This notice of scope ruling applications filed in AD and CVD proceedings is published in accordance with 19 CFR 351.225(d)(3).

Dated: August 21, 2025.
Scot Fullerton,
Acting Deputy Assistant Secretary for Antidumping and Countervailing Duty Operations.

[FR Doc. 2025-16276 Filed 8-25-25; 8:45 am]

BILLING CODE 3510-DS-P